DEPARTMENT OF ENERGY

Federal Energy Regulatory Commission

[Docket No. RP00-335-000]

Black Marlin Pipeline Company; Notice of Proposed Changes in FERC Gas Tariff

June 21, 2000.

Take notice that on June 15, 2000, Black Marlin Pipeline Company (BMPL) tendered for filing to become part of its FERC Gas Tariff, Third Revised Volume No. 1, the following tariff sheets:

Second Revised Sheet No. 109

First Revised Sheet No. 110

Third Revised Sheet No. 111

First Revised Sheet No. 133

Second Revised Sheet No. 134

Third Revised Sheet No. 135

Fifth Revised Sheet No. 212

Fifth Revised Sheet No. 213

First Revised Sheet No. 213.01

First Revised Sheet No. 213E

BMPL states that on February 9, 2000, the Commission issued its final rule regarding the regulation of interstate natural gas transportation services in Docket Nos. RM98-10-000 and RM98-12-000 (Order No. 637). In Order No. 637, the Commission made changes to its current regulatory model to enhance the effectiveness and efficiency of the gas markets as they have evolved since Order No. 636. Specifically, in Order No. 637 the Commission:

• Granted, for a limited period, a waiver of the price ceiling for short-term released capacity

• Narrowed the right of first refusal (“ROFR”)

• Addressed alternatives to traditional pipeline pricing by permitting pipelines to proposed peak/off-peak and term differentiated rate structures

• Revised certain reporting requirements

• Made changes in regulations related to (1) scheduling equality for released capacity, (2) capacity segmentation, and (3) pipeline imbalance services, cash-out provisions, operational flow orders (OFOs) and penalties.

Subsequent to issuing Order No. 637, on May 19, 2000, the Commission issued an Order on Rehearing (Order 637-A) which largely approved the provisions as adopted in Order No. 637.

BMPL states that in a separate filing, BMPL will file revisions to its Tariff to comply with the Order Nos. 637 and 637-A. BMPL will comply with the provisions of Order Nos. 637 and 637-A regarding reporting requirements by September 1, 2000.

Also, BMPL states that in the instant filing, BMPL is filing revisions to its Tariff to comply with requirements in Order Nos. 637 and 637-A related to scheduling equality, capacity segmentation and pipeline imbalance services, OFOs and penalties. As required by the Order Extending Time for Compliance, issued April 12, 2000 in Docket NOs. RM98-10-002 and RM98-12-002, BMPL is making the instant filing on or before June 15, 2000.

Any person desiring to be heard or to protest said filing should file a motion to intervene or a protest with the Federal Energy Regulatory Commission, 888 First Street, N.E., Washington, DC 20426, in accordance with Sectinos 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public reference Room. This filing may be viewed on the web at http://www.ferc.fed.us/online/rims.htm (call 202-208-2222 for assistance.

Davis P. Boergers,
Secretary.

[FR Doc. 00-16133 Filed 6-26-00; 8:45 am]

BILLING CODE 6717-01-M